NATIONAL AERONAUTICS AND SPACE ADMINISTRATION

[Notice (01-115)]

Notice of Prospective Patent License

AGENCY: National Aeronautics and Space Administration.

ACTION: Notice of prospective patent license.

SUMMARY: NASA hereby gives notice that Ticona Polymers, Inc of Summit, NJ 07901-3914, has applied for an exclusive license to practice the invention described and claimed in NASA Case No. LAR-16079-1, entitled “LIQUID CRYSTALLINE THERMOSETS FROM ESTER, ESTER-IMIDE, AND ESTER-AMIDE OLIGOMERS,” for which a U.S. Patent Application was filed and assigned to the United States of America as represented by the Administrator of the National Aeronautics and Space Administration. Written objections to the prospective grant of a license should be sent to Langley Research Center.

DATE(S): Responses to this notice must be received by October 17, 2001.

FOR FURTHER INFORMATION CONTACT: Robin W. Edwards, Patent Attorney, Langley Research Center, Mail Stop 212, Hampton, VA 23061-2199.

Dated: September 25, 2001.
Edward A. Frankle,
General Counsel.

[FR Doc. 01-24530 Filed 10-1-01; 8:45 am]

BILLING CODE 7510-01-P